NUCLEAR REGULATORY COMMISSION

Notice of Public Meeting of the Interagency Steering Committee on Radiation Standards

AGENCIES: U.S. Nuclear Regulatory Commission and U.S. Environmental Protection Agency.

ACTION: Notice of public meeting.

SUMMARY: The U.S. Nuclear Regulatory Commission (NRC) will host a meeting of the Interagency Steering Committee on Radiation Standards (ISCORS) on June 17, 2004, in Rockville, Maryland. The purpose of ISCORS is to foster early resolution and coordination of regulatory issues associated with radiation standards. Agencies represented as members of ISCORS include the following: NRC; U.S. Environmental Protection Agency; U.S. Department of Energy; U.S. Department of Defense; U.S. Department of Transportation; the Occupational Safety and Health Administration of the U.S. Department of Labor; and the U.S. Department of Health and Human Services. ISCORS meeting observer agencies include the Office of Science and Technology Policy, Office of Management and Budget, Defense Nuclear Facilities Safety Board, as well as representatives from both the States of Illinois and Pennsylvania. ISCORS maintains several objectives: (1) Facilitate a consensus on allowable levels of radiation risk to the public and workers; (2) promote consistent and scientifically sound risk assessment and risk management approaches in setting and implementing standards for occupational and public protection from ionizing radiation; (3) promote completeness and coherence of Federal standards for radiation protection; and (4) identify interagency radiation protection issues and coordinate their resolution. ISCORS meetings include presentations by the chairs of the subcommittees and discussions of current radiation protection issues. Committee meetings normally involve pre-decisional intra-governmental discussions and, as such, are normally not open for observation by members of the public or media. One of the four ISCORS meetings each year is open to all interested members of the public. There will be time on the agenda for members of the public to provide comments. Summaries of previous ISCORS meetings are available at the ISCORS Web site, www.iscors.org. The final agenda for the June 2004 meeting will be posted on the web site shortly before the meeting.

DATES: The meeting will be held from 1 p.m. to 4 p.m. on Thursday, June 17, 2004.

ADDRESSES: The meeting will be held in the NRC auditorium, at Two White Flint North, 11545 Rockville Pike, Rockville, Maryland 20852.

FOR FURTHER INFORMATION, CONTACT: Susanne Woods, Office of Nuclear Material Safety and Safeguards, U.S. Nuclear Regulatory Commission, Washington, DC 20555, telephone (301) 415-7267; FAX (301) 415-5398; electronic mail SRW@NRC.GOV.

SUPPLEMENTARY INFORMATION: Visitor parking around the NRC building is limited; however, the NRC auditorium is located adjacent to the White Flint Metro Station on the Red Line.

Dated at Rockville, MD, this 6th day of May, 2004.
For the Nuclear Regulatory Commission.
Scott Flanders,
Deputy Director, Environmental and Performance Assessment Directorate, Division of Waste Management and Environmental Performance, Office of Nuclear Materials Safety and Safeguards.

[FR Doc. 04-10933 Filed 5-13-04; 8:45 am]

BILLING CODE 7590-01-P